NUCLEAR REGULATORY COMMISSION

Sunshine Act; Meetings

Date: Weeks of March 24, 31, April 7, 14, 21, 28, 2003.

Place: Commissioner's Conference Room, 11555 Rockville Pike, Rockville, Maryland.

Status: Public and closed.

Matters To Be Considered:

Week of March 24, 2003

Thursday, March 27, 2003

10 a.m. Briefing on status of Office of Nuclear Regulatory Research (RES) programs, performance, and plans.

This meeting will be webcast live at the Web address— www.nrc.gov.

Week of March 31, 2003—Tentative

There are no meetings scheduled for the week of March 31, 2003.

Week of April 7, 2003—Tentative

Friday, April 11, 2003

9 a.m. Meeting with Advisory Committee on Reactor Safeguards (ACRS) (public meeting) (contact: John Larkins, 301-415-7360).

This meeting will be webcast live at the Web address— www.nrc.gov.

12:30 p.m. Discussion of management issues (closed—Ex. 2).

Week of April 14, 2003—Tentative

There are no meetings scheduled for the week of April 14, 2003.

Week of April 21, 2003—Tentative

There are no meetings scheduled for the week of April 21, 2003.

Week of April 28, 2003—Tentative

There are no meetings scheduled for the week of April 28, 2003.

* The schedule for Commission meetings is subject to changes on short notice. To verify the status of meetings call (recording)—(301) 415-1292. Contact person for more information: David Louis Gamberoni (301) 415-1651.

* * * * *

Additional Information: “Briefing on Status of Office of Nuclear Security and Incident Response (NSIR) Programs, Performance, and Plans (Closed—Ex. 1),” scheduled for March 20, 2003, was canceled.

* * * * *

The NRC Commission meeting schedule can be found on the Internet at: www.nrc.gov/what-we-do/policy-making/schedule.html.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: March 20, 2003.
David Louis Gamberoni,
Technical Coordinator, Office of the Secretary.

[FR Doc. 03-7035 Filed 3-20-03; 1:12 pm]

BILLING CODE 7590-01-M